DEPARTMENT OF DEFENSE

Defense Acquisition Regulations System

48 CFR Parts 204, 225, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective February 28, 2014.

FOR FURTHER INFORMATION CONTACT: Mr. Manuel Quinones, Defense Acquisition Regulations System, OUSD(AT&L)DPAP(DARS), Room 3B855, 3060 Defense Pentagon, Washington, DC 20301-3060. Telephone 571-372-6088; facsimile 571-372-6094.

SUPPLEMENTARY INFORMATION: This final rule amends the DFARS as follows:

1. Correct 204.1105 and 252.204-7004 to conform to the FAR by changing “clause” to “provision”.

2. Correct a cross reference at 204.7103-1(d).

3. Redesignate 225.004 as 225.070 and revise the text.

4. Correct 252.225-7029 clause title in the eCFR.

List of Subjects in 48 CFR Parts 204, 225, and 252

Government procurement.

Manuel Quinones,
Editor, Defense Acquisition Regulations System.

Therefore, 48 CFR parts 204, 225, and 252 is amended as follows:

1. The authority citation for 48 CFR parts 204, 225, and 252 continues to read as follows:

Authority: 41 U.S.C. 1303 and 48 CFR chapter 1.

PART 204—ADMINISTRATIVE MATTERS

204.1105 [Amended]

2. Section 204.1105 is amended by removing the word “clause” and adding the word “provision” in its place.

204.7103-1 [Amended]

3. Section 204.7103-1 is amended, in paragraph (d), by removing “See 204.7105(a).” and adding “See 204.7105.” in its place.

PART 225—AMENDED

225.004 [Redesignated as 225.070]

4. Section 225.004 is redesignated as 225.070 and revised to read as follows:

225.070 Reporting of acquisition of end products manufactured outside the United States.

Follow the procedures at PGI 225.070 for entering the data on the acquisition of end products manufactured outside the United States.

PART 252—SOLICITATION PROVISIONS AND CONTRACT CLAUSES

252.204-7004 [Amended]

5. Section 252.225-7004 is amended by—

a. Removing the clause date “(MAY 2013)” and adding “(FEB 2014)” in its place.

b. Removing, in paragraph (a), the word “clause” and adding the word “provision” in its place.

252.225-7029 [Amended]

6. Section 252.225-7029 clause title is amended by removing the word “the” in two places.

[FR Doc. 2014-04160 Filed 2-27-14; 8:45 am]

BILLING CODE 5001-06-P